DEPARTMENT OF COMMERCE

National Oceanic and Atmospheric Administration

50 CFR Part 600

[I.D. 110900B]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator Northeast Region, NMFS (Regional Administrator), has made a preliminary determination to consider an application for an EFP that would allow up to four vessels to conduct fishing operations otherwise restricted by regulations governing the fisheries of the Northeastern United States. The Rutgers University Haskin Shellfish Research Laboratory has submitted an application for an EFP that warrants further consideration. The experimental fishery to be conducted under the EFP would investigate selectivity of various trawl mesh sizes in the Mid-Atlantic region. The research would target small-mesh species (Atlantic mackerel, Loligo squid, silver hake (whiting), black sea bass, and scup), with the goal of developing fishing gear and/or methods that would significantly reduce the discard mortality of scup. This notice is intended to provide interested parties the opportunity to comment on the proposed experimental fishery.

DATES: Comments must be received by December 6, 2000.

ADDRESSES: Comments should be sent to Patricia Kurkul, Regional Administrator, NMFS, Northeast Regional Office, 1 Blackburn Drive, Gloucester, MA 01930. Mark on the outside of the envelope “Comments on Proposed Experimental Fishery.”

FOR FURTHER INFORMATION CONTACT: Tom Warren, Fishery Management Specialist, 978-281-9347.

SUPPLEMENTARY INFORMATION: The regulations that govern exempted experimental fishing, at 50 CFR 600.745, allow the Regional Administrator to authorize for certain purposes the targeting or incidental harvest of managed species that would otherwise be prohibited. An EFP to authorize such activity may be issued, provided there is adequate opportunity for the public to comment on the EFP application, and the conservation goals and objectives of the Fishery Management Plan are not compromised.

The Rutgers University Haskin Shellfish Research Laboratory of Port Norris, NJ, submitted to NMFS on October 9, 2000, an application for an EFP to conduct gear research in the small-mesh fisheries of the Mid-Atlantic region; in particular, gear selectivity experiments that investigate the retention of scup. The research would target several small-mesh species (Atlantic mackerel, Loligo squid, whiting, black sea bass, and scup), with the goal of developing fishing gear and/or methods that would significantly reduce the discard mortality of sub-legal and legal-sized scup. Scup are overfished and discard mortality has been identified as a problem that needs to be addressed to allow the stock to rebuild. The experimental design seeks to increase the number of observed tows in the directed scup fishery and to compare the catch selectivity of codends with mesh sizes ranging from 1 and 7/8 to 5.0 inches (47 to 125-mm). A composite codend constructed of 4.5 and 4.0-inch (113 and 100-mm) codend mesh may also be tested.

Up to four vessels with the appropriate Federal permits would be authorized to target Atlantic mackerel, Loligo squid, whiting, black sea bass, scup and to retain other incidental catch species using trawls with various codend mesh sizes beginning on or after January 1, 2001. The experiment would be authorized through December 31, 2001, but may be completed as soon as February 28, 2001. Tows would be up to 1 hour in duration and, when possible, consistent with procedures used during the course of normal fishing activities. Researchers would identify, count, and measure the target and incidental species retained by the trawls; commercial species would be retained and sold. The applicants anticipate a total number of 32 trips would be taken within the duration of this proposal.

Participating vessels would have trained observers or researchers on board, and make tows in Mid-Atlantic waters east and southeast of New Jersey in NMFS statistical areas 613, 615, 616, 622, and 623 (approximately between 38° 00' N. and 42° 00' N. lat.). Landings of species other than scup would be subject to all applicable fishery regulations, including all applicable state or Federal limits in effect at the time of the research. It is anticipated that incidental species will include, but not be limited to, summer flounder. Vessels may be allowed to retain and land up to 3,000 lb (1,361 kg) of scup per trip in excess of the trip limit in effect at the time of the experiment. The increased trip limit would be used to obtain more sample tows per trip and to defray costs of the research. All landings of scup would be counted towards the period and the annual scup quota and the fishery will be closed when the quotas are reached, consistent with the provisions of § 648.120. Issuance of the EFPs would not authorize landing of scup in excess of established quotas. EFPs would be required to exempt vessels from certain management measures of the Summer Flounder, Scup, and Black Sea Bass Fishery Management Plan, including gear restrictions, mesh-size requirements, possession restrictions on undersized species for data collection purposes only, and trip limits. Due to the distribution of target species, it may be necessary for the experimental vessels to fish in gear restricted areas (GRAs). If GRAs are in effect at the time of, and in the location of, the experimental fishing, exemptions from pertinent GRA regulations would be required. There will be an opportunity for public discussion of this proposal at the December 12-14, 2000, meeting of the Mid-Atlantic Fishery Management Council in Atlantic City, NJ. An agenda and other details of that meeting will be published in the Federal Register in advance of the meeting.

Authority: 16 U.S.C. 1801 et seq.

Dated: November 15, 2000.
Bruce C. Morehead,
Acting Director, Office of Sustainable Fisheries, National Marine Fisheries Service.

[FR Doc. 00-29779 Filed 11-20-00; 8:45 am]

BILLING CODE: 3510-22-S